SMALL BUSINESS ADMINISTRATION

[Declaration of Disaster #3389]

State of Minnesota

Ramsey County and the contiguous Counties of Anoka, Dakota, Hennepin and Washington in the State of Minnesota constitute a disaster area due to damages caused by a fire at the Shoreview Hills Apartments that occurred on November 24, 2001. Applications for loans for physical damage may be filed until the close of business on February 25, 2002 and for economic injury until the close of business on September 22, 2002 at the address listed below or other locally announced locations:

U.S. Small Business Administration, Disaster Area 2 Office, One Baltimore Place, Suite 300, Atlanta, GA 30308

The interest rates are:

| Percent
For Physical Damage:
Homeowners With Credit Available Elsewhere | 6.500
Homeowners Without Credit Available Elsewhere | 3.250
Businesses With Credit Available Elsewhere | 8.000
Businesses and Non-Profit Organizations Without Credit Available Elsewhere | 4.000
Others (Including Non-Profit Organizations) With Credit Available Elsewhere | 6.375
For Economic Injury: Businesses and Small Agricultural Cooperatives Without Credit Available Elsewhere | 4.000

The number assigned to this disaster for physical damage is 338905 and for economic injury is 9O0600.

(Catalog of Federal Domestic Assistance Program Nos. 59002 and 59008)
Dated: December 21, 2001.
Hector V. Barreto,
Administrator.

[FR Doc. 02-472 Filed 1-7-02; 8:45 am]

BILLING CODE 8025-01-P